DEPARTMENT OF THE INTERIOR

Bureau of Land Management

[AK-930-08-1310-DQ]

Notice of Extension of Comment Period for the Northeast National Petroleum Reserve—Alaska Draft Supplemental Integrated Activity Plan/Environmental Impact Statement

AGENCY: Bureau of Land Management, Interior.

ACTION: Notice of extension of comment period for the Northeast National Petroleum Reserve—Alaska Draft Supplemental Integrated Activity Plan/Environmental Impact Statement.

SUMMARY: The Bureau of Land Management (BLM) announces an extension of the comment period on the Northeast National Petroleum Reserve—Alaska Draft Supplemental Integrated Activity Plan/Environmental Impact Statement (IAP/EIS). The original notice issued August 24, 2007, provided for a comment period to end on October 23, 2007. The BLM is extending the comment period to November 6, 2007.

FOR FURTHER INFORMATION CONTACT: Jim Ducker, BLM Alaska State Office, 907-271-3130.

SUPPLEMENTARY INFORMATION: The Notice of Availability published in the Federal Register on August 24, 2007 provided for comments on the Draft IAP/EIS to be received through October 23, 2007. The North Slope Borough, the local government for the plan area and a cooperating agency on this plan, has requested an extension of the comment period. The BLM has decided to accede to the borough's request. Comments on the Draft IAP/EIS will now be accepted through November 6, 2007.

Dated: October 1, 2007.
Thomas P. Lonnie,
State Director.

[FR Doc. E7-20133 Filed 10-11-07; 8:45 am]

BILLING CODE 4310-JA-P